OVERSEAS PRIVATE INVESTMENT CORPORATION

Privacy Act of 1974; New System of Records

AGENCY: Overseas Private Investment Corporation (OPIC).

ACTION: Notice of a new system of records.

SUMMARY: In accordance with the Privacy Act of 1974, as amended, the Overseas Private Investment Corporation (OPIC) is giving notice of a proposed new system of records. This system, the Salesforce Customer Relationship Management System (“Insight”) is utilized by OPIC as a Customer Relationship Management (CRM) tool. This system, which has gained broad acceptance across federal agencies, supports OPIC in executing its federal function in providing political risk insurance products, financing through direct loans and loan guarantees, and support for private equity funding to eligible investment projects in developing countries and emerging markets. This is executed through the system's ability to facilitate OPIC's insurance, finance, and funds processes. The system generates automated workflows and seamless integration with processes such as application intake. Additionally, the Salesforce customer relationship management system supports Office of Investment Policy clearances and Portfolio Services project monitoring. This system will provide a common platform upon which to conduct key business functions across the agency, thereby gaining efficiencies, enabling integration, collaboration, transparency and establishing a single, authoritative data source.

DATES: The proposed new system will be effective without further notice on (30 days after submission of notice date), unless comments received result in a contrary determination. All capabilities will be incrementally implemented following the system's effective date.

ADDRESSES: Send written comments to the Overseas Private Investment Corporation, ATTN: W. Philip Gordon, Jr.; Deputy Chief Information Officer, Department of Management and Administration, 1100 New York Avenue NW., Washington, DC 20527.

FOR FURTHER INFORMATION CONTACT: W. Philip Gordon Jr., Deputy Chief Information Officer, 202-336-6212.

SUPPLEMENTARY INFORMATION: OPIC has established a system of records pursuant to the Privacy Act (5 U.S.C. 552a).

SYSTEM NUMBER: OPIC-23

SYSTEM NAME:

Salesforce Customer Relationship Management System (“Insight”).

SYSTEM CLASSIFICATION:

Unclassified.

SYSTEM LOCATION:

The system is located in an Enterprise Government Cloud Service environment and is a singular component system. It is managed by OPIC's Business Systems Modernization division of the Office of the Chief Information Officer. The system is hosted at secured Salesforce General Services Administration (GSA) data center (NA-21) located in Ashburn, Virginia and is replicated to a GSA data center for disaster recovery in Oak Park, Illinois.

CATEGORIES OF INDIVIDUALS COVERED BY THE SYSTEM:

The system covers individuals representing, guaranteeing, sponsoring, owning or managing a potential or actual OPIC project under all of the agency's financing and insurance programs.

CATEGORIES OF RECORDS IN THE SYSTEM:

This system contains the information needed for processing agency insurance and finance projects through all stages including: Application, policy clearances, origination, disbursement, and monitoring. Depending on the level of connection of an individual to the project, personal and financial information on the individual may be maintained. This includes: Name, maiden name, date of birth, country of birth, citizenship, personally identifying number, address for the past ten years, contact information, credit history, financial statements, professional experience, compliance and enforcement information, and screening results.

AUTHORITY FOR MAINTENANCE OF THE SYSTEM:

Sections 231 & 231A of the Foreign Assistance Act of 1961, as amended; 44 U.S.C. 3103, et seq.; 44 U.S.C. 3501, et seq.; 44 U.S.C. 3541, et seq.; and Executive Order 937 as Amended by Executive Order 13478 signed by President George W. Bush on November 18, 2008, Relating to Federal Agency Use of Social Security Numbers.

PURPOSE OF THE SYSTEM:

This system will be used by OPIC to fulfill its statutory mandate to prudently provide political risk insurance products, financing through direct loans and loan guarantees, and support for private equity funding to eligible investment projects. This system will facilitate project processing from intake to project closeout and the information in the system will be used to administer the project as necessary, including in the administration of insurance claims, the collection of defaulted obligations, and in arbitration or litigation. The system will also be used to internally track and manage client/contact information of applications for OPIC insurance products, financing and investment funding. Data from this system may also be used for evaluating the effectiveness of OPIC's products and programs and to improve upon them.

ROUTINE USE OF RECORDS MAINTAINED IN THE SYSTEM, INCLUDING CATEGEORIES OF USERS AND THE PURPOSES OF SUCH USES:

In addition to those disclosures generally permitted under 5 U.S.C. 552a(b) of the Privacy Act, all or a portion of the records or information contained in this system may be disclosed to authorized entities, as determined to be relevant and necessary, outside OPIC as a routine use pursuant to 5 U.S.C. 552a(b)(3) as follows:

• Financial project monitoring or collections

• Due diligence background checks and screening

• Litigation or arbitration purposes

• Outside organizations contracted with OPIC for specific authorized activities.

• National Archives and Records Administration (NARA) for records management purposes.

• Contractors, interns, and government detailed personnel to perform OPIC authorized activities.

• Audits and oversight

• Congressional Inquires

• Investigations of potential violations of law.

DISCLOSURE TO CONSUMER REPORTING AGENCIES:

If it is deemed necessary, a credit check will be run on individuals and/or companies. Credit checks are executed using a secure credit portal for the consumer (individual) credit checks. For companies, a Dun & Bradstreet (D&B) credit portal is used.

STORAGE:

This system is electronically stored in a government cloud service centrally located at a Salesforce GSA data center.

RETRIEVABILITY:

The records may be retrieved by the project name, project number, company name, associated individual's name, or reporting tools provided on the system dashboards.

SAFEGUARDS:

Access to the records is restricted to those authorized government personnel and authorized contractors with a specific role in the insurance, direct lending or the loan guarantee process. OPIC uses two-factor authentication for agency specific users to access “Insight” outside of the agency network. Any changes to the system are implemented through a change management process.

RETENTION AND DISPOSAL:

Records are maintained on an ongoing basis and updated by OPIC staff managing the system. These records will follow the OPIC retention schedule based on project classification.

SYSTEM MANAGER and ADDRESS:

Dennis Lauer, Vice President, Department of Management Administration and Chief Information Officer; Overseas Private Investment Corporation, Office of the Chief Information Officer, 1100 New York Avenue NW., Washington DC 20527.

NOTIFICATION PROCEDURES:

Individuals wishing to determine whether this system of records contains information about them may do so by writing to the Deputy Chief Information Officer, Overseas Private Investment Corporation, 1100 New York Ave NW., Washington, DC 20527; or to the contact specified in the OPIC's Privacy Act regulations at 22 CFR 707. The request must include the requestor's full name, current address, the name or number of the system to be searched, and if possible, the record identification number. The request must be signed by either notarized signature or by signature under penalty of perjury under 28 U.S.C. 1746. The request must also comply with OPIC's Privacy Act regulations regarding the verification of identity at 22 CFR 707.21(c).

RECORD ACCESS PROCEDURE:

Individuals wishing to request a copy of access to records about them should follow the same procedures as detailed in the Notification Procedures and specify whether they wish to obtain copies or access.

CONTESTING RECORD PROCEDURE:

Individuals wishing to request an amendment of records about them should follow the same procedures as detailed in the Notification Procedures and identify the record to be corrected, specify the correction to be made, and detail the basis for the requester's belief that the records and information are not accurate, relevant, timely, or complete. Please include any available evidence.

RECORD SOURCE CATEGORIES:

Information about individuals is imported from the entries made directly by those individuals or the project representative coordinating with OPIC. Further information on those individuals may be obtained from databases and third parties in the course of OPIC's due diligence and stored within the system.

EXEMPTIONS CLAIMED FOR THE SYSTEM:

None.

Dated: May 20, 2015.
Salvatore Montemarano,
Senior Agency Official for Privacy, Overseas Private Investment Corporation.

[FR Doc. 2015-12769 Filed 5-26-15; 8:45 am]

BILLING CODE 3210-01-P